GENERAL SERVICES ADMINISTRATION

48 CFR Part 552

[GSAR Case 2017-G506; Docket No. GSA-GSAR 2021-0016; Sequence No. 1]

RIN 3090-AJ90

General Services Administration Acquisition Regulation (GSAR); Clause and Provision Designation Corrections; Correction

AGENCY: Office of Acquisition Policy, General Services Administration (GSA).

ACTION: Final rule; correction.

SUMMARY: On October 6, 2021, GSA published a final rule to amend the General Services Administration Acquisition Regulation (GSAR) to correct clause and provision designation and prescription errors, correct deviations and alternate identification issues, and to make other updates to the GSAR related to identification and incorporation of GSAR provisions and clauses. This document makes editorial corrections in that rule.

DATES: Effective November 5, 2021.

FOR FURTHER INFORMATION CONTACT: Mr. Thomas O'Linn, Procurement Analyst, at 202-445-0390 or gsarpolicy@gsa.gov, for clarification of content. For information pertaining to status or publication schedules, contact the Regulatory Secretariat Division at 202-501-4755 or GSARegSec@gsa.gov. Please cite GSAR Case 2017-G506.

SUPPLEMENTARY INFORMATION: In FR Doc. 2021-20541 appearing on pages 55516-55525 in the issue of October 6, 2021, make the following corrections:

552.227-71 [Corrected]

1. On page 55523, in the third column, in section 552.227-71, correct the phrase “As prescribed in 527.409-70(b)” to read “As prescribed in 527.409(b)”.

2. On page 55524, in the first column, amend instruction 78 by removing the text “552.111(a)” and adding “532.111(a)” in its place.

3. On page 55524, in the first column, amend instruction 79 by removing the text “552.111(b)” and adding “532.111(b)” in its place.

4. On page 55524, in the third column, in section 552.241-71, correct the phrase “As prescribed in 541.570(b)” to read “As prescribed in 541.501(b)”.

5. On page 55525, in the first column, in section 555.252-5, correct the provision heading “Authorized Deviations in Provisions (DATE)(Deviation FAR 52.252-5)” to read “Authorized Deviations in Provisions (NOV 2021)(Deviation FAR 52.252-5)” in its place.

6. On page 55525, in the first column, in section 555.252-6, correct the clause heading “Authorized Deviations in Clauses (DATE)(Deviation FAR 52.252-6)” to read “Authorized Deviations in Clauses (NOV 2021)(Deviation FAR 52.252-6)” in its place.

Jeffrey A. Koses,
Senior Procurement Executive, Office of Acquisition Policy, Office of Government-wide Policy, General Services Administration.

[FR Doc. 2021-23940 Filed 11-4-21; 8:45 am]

BILLING CODE 6820-61-P